DEPARTMENT OF JUSTICE

Notice of Lodging of Proposed Consent Decree Under the Comprehensive Environmental Response, Compensation, and Liability Act

On February 22, 2023, the Department of Justice lodged a proposed consent decree agreed to with defendants Honeywell International Inc. (“Honeywell”) and Olin Corporation (“Olin”) in the United States District Court for the Northern District of West Virginia in the lawsuit entitled United States and State of West Virginia v. Honeywell International Inc. and Olin Corporation, Civil Action No. 5:23-cv-00059. The consent decree resolves the United States' claims under the Comprehensive Environmental Response, Compensation, and Liability Act (“CERCLA”), for the performance of response actions and for payment of response costs incurred in connection with the release of hazardous substances at the Hanlin-Allied-Olin Superfund Site, located in Moundsville, West Virginia. The consent decree also resolves related claims brought by the State of West Virginia, through the West Virginia Department of Environmental Protection. The complaint filed concurrently with the consent decree alleges that Honeywell, through predecessor companies, and Olin owned and operated chemical production facilities at the Site that were sources of hazardous substances that contaminated the Site. The proposed consent decree obligates Honeywell and Olin to pay for all future EPA and WVDEP response costs and reimburse $534,165 of the United States' past response costs. Honeywell and Olin will perform the work at the Site pursuant to the proposed consent decree.

The publication of this notice opens a period for public comment on the consent decree. Comments should be addressed to the Assistant Attorney General, Environment and Natural Resources Division, and should refer to United States and State of West Virginia v. Honeywell International Inc. and Olin Corporation, Civil Action No. 5:23-cv-00059, D.J. Ref. No. 90-11-3-12417. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $49.75 (25 cents per page reproduction cost) payable to the United States Treasury. For a paper copy without the exhibits and signature pages, the cost is $8.25.

Jeffrey Sands,
Assistant Section Chief, Environmental Enforcement Section, Environment and Natural Resources Division.

[FR Doc. 2023-04131 Filed 2-28-23; 8:45 am]

BILLING CODE 4410-15-P